DEPARTMENT OF ENERGY

Federal Energy Regulatory Commission

Notice of Application Tendered for Filing With the Commission, Soliciting Additional Study Requests, and Establishing Procedural Schedule for Relicensing and a Deadline for Submission of Final Amendments

April 29, 2005.

Take notice that the following hydroelectric application has been filed with the Commission and is available for public inspection.

a. Type of Application: New major license.

b. Project No.: 2170-029.

c. Date Filed: April 22, 2005.

d. Applicant: Chugach Electric Association.

e. Name of Project: Cooper Lake Hydroelectric Project.

f. Location: On Cooper Lake, approximately 4.8 river miles from the mouth of Cooper Creek in south central Alaska, 55 miles south of Anchorage.

g. Filed Pursuant to: Federal Power Act 16 U.S.C. 791(a)-825(r).

h. Applicant Contact: Burke Wick, Chugach Electric Association, 5601 Minnesota Drive, Anchorage, Alaska, 99519. (907) 762-4779.

i. FERC Contact: David Turner (202) 502-6091 or david.turner@FERC.gov.

j. Cooperating Agencies: We are asking Federal, State, local, and tribal agencies with jurisdiction and/or special expertise with respect to environmental issues to cooperate with us in the preparation of the environmental document. Agencies who would like to request cooperating status should follow the instructions for filing comments described in item l below.

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 21, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The existing project consists of: (1) The Cooper Lake Dam, a 52-foot-high earth-and-rockfilled structure; (2) the 2,620-acre, 5-mile-long Cooper Lake Reservoir; (3) two vertical-shaft Francis turbines with a total capacity of 19.38 megawatts; (4) an intake structure located on Cooper Lake; (5) a tunnel and penstock extending 10,686 feet east from the intake to the powerhouse; a (6) 6.3-mile-long, 69-kV primary transmission line from the powerhouse to Quartz Creek Substation; and 90.4-mile-long, 115-kV secondary transmission line from the Quartz Creek Substation to Anchorage.

The proposed project includes all of the existing facilities described above, except the 90.4-mile-long, 115-kV transmission line, which are proposed for removal because they no longer serve as a primary project transmission line. A new dam would be constructed on Stetson Creek to divert water into Cooper Lake to provide flow releases for fish habitat improvements in Cooper Creek.

o. A copy of the application is on file with the Commission and is available for public inspection. This filing is available for review at the Commission in the Public Reference Room or may be viewed on the Commission's Web site at http://www.ferc.gov using the “eLibrary” link. Enter the docket number excluding the last three digits in the docket number field to access the document. For assistance, contact FERC online support at ferconlinesupport@ferc.gov or toll-free at 1-866-208-3676, or for Text Telephone (TTY) call (202) 502-8659. A copy is also available for inspection and reproduction at the address in item h above.

p. With this notice, we are initiating consultation with the Alaska State Historic Preservation Officer (SHPO), as required by section 106, National Historic Preservation Act, and the regulations of the Advisory Council on Historic Preservation, 36 CFR 800.4.

q. Procedural schedule and final amendments: The application will be processed according to the following Hydro Licensing Schedule. Revisions to the schedule will be made as appropriate. The Commission staff proposes to issue one Environmental Assessment (EA) rather than issuing a draft and final EA. Staff intends to allow at least 30 days for entities to comment on the EA, and will take into consideration all comments received on the EA before final action is taken on the license application. If any person or organization objects to the staff proposed alternative procedure, they should file comments as stipulated in item l above, briefly explaining the basis for their objection.

Issue Acceptance Letter—July 2005

Issue Scoping Document 1 for comments—August 2005

Scoping Meeting—September 2005

Issue Scoping Document 2—November 2005

Notice of application is ready for environmental analysis—December 2005

Notice of the availability of the EA—June 2006

Ready for Commission's decision on the application—November 2006

Final amendments to the application must be filed with the Commission no later than 30 days from the issuance date of the notice of ready for environmental analysis.

Linda Mitry,
Deputy Secretary.

[FR Doc. E5-2188 Filed 5-4-05; 8:45 am]

BILLING CODE 6717-01-P